DEPARTMENT OF TRANSPORTATION

Federal Highway Administration

Federal Transit Administration

[FHWA Docket No. FHWA-98-4317]

Transportation Equity Act for the 21st Century; Final Guidance for the Congestion Mitigation and Air Quality Improvement Program; Correction

AGENCIES: Federal Highway Administration (FHWA), Federal Transit Administration (FTA), DOT.

ACTION: Notice; issuance of final guidance; correction.

SUMMARY: This document contains a correction to the notice issuing final guidance on section 1110 of the Transportation Equity Act for the 21st Century (TEA-21) for the congestion mitigation and air quality improvement program (CMAQ) that was published on February 23, 2000 at 65 FR 9040. The notice published on February 23, 2000, contained an incorrect docket number. This document corrects a typographical error in the docket number.

DATES: This correction is effective on March 24, 2000.

FOR FURTHER INFORMATION CONTACT: Mr. S. Reid Alsop, HCC-30, Office of the Chief Counsel, (202) 366-1371 or Mr. Mike Savonis, HEPN-10, Office of Environment and Planning, (202) 366-2080. Office hours are from 8 a.m. to 4:30 p.m., e.t., Monday through Friday, except Federal holidays.

SUPPLEMENTARY INFORMATION:

Need for Correction

The Federal Highway Administration and the Federal Transit Administration published a notice issuing final guidance on the CMAQ program on February 23, 2000 at 65 FR 9040. In the heading of the notice, it incorrectly states “FHWA Docket No. FHWA-99-4317.” It should have stated “FHWA Docket No. FHWA-98-4317.” This document corrects that number.

In notice FR Doc., 00-4224, published on February 23, 2000 (65 FR 9040), make the following correction: On page 9040, in the second column, in the heading of the document, correct the docket number to read FHWA Docket No. FHWA 98-4317.

Authority: 23 U.S.C. 315; sec. 1110, Pub. L. 105-178, 112 Stat. 107 (1998); 49 CFR 1.48 and 1.51.

Issued on: March 10, 2000.
Karen E. Skelton,
Chief Counsel, Federal Highway Administration.

[FR Doc. 00-7223 Filed 3-23-00; 8:45 am]

BILLING CODE 4910-22-P